DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of public comment period for the Revised Management Plan for the North Carolina National Estuarine Research Reserve.

SUMMARY: Notice is hereby given that the Estuarine Reserves Division, Office of Ocean and Coastal Resource Management, National Ocean Service, National Oceanic and Atmospheric Administration (NOAA), U.S. Department of Commerce is announcing a thirty day public comment period on the North Carolina National Estuarine Research Reserve Management Plan Revision.

Four sites in coastal North Carolina comprise the North Carolina National Estuarine Research Reserve; Currituck Banks, Rachel Carson, Masonboro Island and Zeke's Island. Currituck Banks, Rachel Carson and Zeke's Island were designated in 1985, and Masonboro Island was designated in 1991, as the North Carolina National Estuarine Research Reserve pursuant to Section 315 of the Coastal Zone Management Act of 1972, as amended, 16 U.S.C. 1461. The reserve has been operating in partnership with the North Carolina Department of Environment and Natural Resources under a management plan approved in 1998. Pursuant to 15 CFR Section 921.33(c), a state must revise their management plan every five years. The submission of this plan fulfills this requirement and sets a course for successful implementation of the goals and objectives of the reserve. An increase in the vertical placement of the program on the state organizational chart, a new administrative facility, and updated programmatic objectives are notable revisions to the 1998 approved management plan.

The revised management plan outlines the administrative structure; the education, stewardship, and research goals of the reserve; and the plans for future land acquisition and facility development to support reserve operations. This management plan describes how the strengths of the reserve will focus on several areas relevant to coastal North Carolina, including coastal population increase, altered land use, storm water runoff and eutrophication, invasive species, tropical and coastal storm impacts and sea level rise.

Since 1998, the reserve has added a coastal training program that delivers science-based information to key decision makers in North Carolina; has completed a site profile that characterizes the reserve; and has expanded the monitoring, stewardship and education programs. A new administrative building (2007) has been built to support the growth of reserve programs.

FOR FURTHER INFORMATION CONTACT: Amy Clark at (301) 563-1137 or Laurie McGilvray at (301) 563-1158 of NOAA's National Ocean Service, Estuarine Reserves Division, 1305 East-West Highway, N/ORM5, 10th floor, Silver Spring, MD 20910. For copies of the North Carolina Management Plan revision, visit http://www.nccoastalreserve.net/.

Dated: July 23, 2009.
Donna Wieting,
Deputy Director, Office of Ocean and Coastal Resource Management, National Oceanic and Atmospheric Administration.

[FR Doc. E9-18087 Filed 7-28-09; 8:45 am]

BILLING CODE 3510-08-P